DEPARTMENT OF THE INTERIOR

Geological Survey

Federal Geographic Data Committee (FGDC); Public Review of Framework Data Standards

ACTION: Notice.

SUMMARY: The FGDC will conduct a public review of draft framework data standards developed through the Geospatial One-Stop initiative. The public review is scheduled to begin in July 2004. Framework data standards establish common requirements to facilitate data exchange for seven themes of geospatial data fundamental to many different Geographic Information Systems (GIS) applications. The seven geospatial data themes are: geodetic control, elevation, orthoimagery, hydrography, transportation, cadastral, and governmental unit boundaries. The standard for each of the seven framework themes specifies a minimal level of data content that data producers, consumers, and vendors should use for the interchange of data.

The intended users of the framework data standards are data producers and collectors, system architects, database designers, and software developers who will implement these standards in different GIS applications. The FGDC will solicit comment on the draft standards from the geospatial community in public and private sectors to ensure that the broadset set of needs are met. Comments that address specific issues/changes/additions may result in revisions to the draft framework data standards.

After the end of the FGDC public review period, the comments will be evaluated and reviewers will receive notification of how their comments were addressed. Revised draft framework data standards will be submitted for further processing for approval by the American National Standards Institute (ANSI), including a second public review that will be announced in ANSI's Standards Action bulletin. After ANSI approval and formal endorsement by the FGDC, which is expected in the second half of calendar year 2005, the published framework data standards and a summary analysis of the changes will be made available to the public.

DATES: FGDC public review is scheduled to begin in July 2004. The actual start date will be published on the FGDC and Geospatial One-Stop web sites.

CONTACT AND ADDRESSES: Inquiries about the framework data standards and the FGDC public review should be addressed to Ms. Julie Binder Maitra, FGDC Standards Coordinator c/o U.S. Geological Survey, 590 National Center, 12201 Sunrise Valley Drive, Reston, Virginia 20192 or by phone 703-648-4627 or by facsimile 703-648-5755 or Internet at jmaitra@usgs.gov.

SUPPLEMENTARY INFORMATION: Following is information about the framework data standards:

The standard for each framework theme will specify a minimal level of data content that data producers, consumers, and vendors should use for the interchange of data by various means, including Web services. The standards do not specify a particular structure for the interchange of data. Data producers and users may structure thematic data in any format for their own internal use. The standards do not modify business processes or modify how organizations hold data.

The framework data standards establish the content requirements for the collection and interchange of data pertaining to the seven framework themes. The standards identify terminology, encoding schema, data components, and metadata needed for data exchange.

The seven framework themes covered by these standards are described below:

1. Geodetic Control: Geodetic control provides a common consistent, and accurate reference system for establishing coordinates for all geographic data. All framework data and users' applications data require geodetic control to accurately register spatial data. The fundamental geodetic control for the United States is provided through the National Spatial Reference System (NSRS) managed by the National Oceanic and Atmospheric Administration (NOAA).

2. Elevation Bathymetric: The bathymetric data for near coastal marine, Inland, and inter-coastal waterways is highly accurate bathymetric information collected to ensure that Federal navigation channels are maintained to their authorized depths. Bathymetric survey activities support the Nation's critical nautical charting program. This data is also used to create Electronic Navigational Charts. The bathymetric data supports the elevation layer of the geospatial data framework.

3. Elevation Terrestrial: Land elevation data contains georeferenced digital representations of terrestrial surfaces, natural or manmade, which describe vertical position above or below a datum. As with bathymetric data, terrestrial data may be modeled in various forms, such as in an evenly spaced grid or as irregularly spaced points (triangulated irregular network, contour lines, mass points). The terrestrial data, in its various forms, can contribute to the elevation layer of the geospatial data framework.

4. Orthoimagery: This dataset contains georeferenced images of the Earth's surface, collected by a sensor in which image object displacement has been removed for sensor distortions and orientation and for terrain relief. For very large surface areas, an Earth curvature correction may be applied. Digital orthoimages encode the visible and near visible portions of the electromagnetic spectrum as discrete values modeled in an array of georeferenced pixels. Digital orthoimages have the geometric characteristics of a map and image qualities of a photograph.

5. Hydrography: This data theme includes surface water features such as lakes, ponds, streams and rivers, canals, oceans, and coastlines. Each hydrography feature is assigned a permanent feature identification code and may also be identified by a feature name. Spatial positions of features are encoded as flowlines and polygons. Network connectivity, direction of flow, and a linear referencing system are also encoded.

6. Transportation: Transportation data are used to model the geographic locations, interconnectedness, and characteristics of the transportation system within the United States. The transportation system includes both physical and non-physical components representing all modes of travel that allow the movement of goods and people between locations.

Sub-themes representing the physical components of the transportation infrastructure include the road, railroad, transit, and waterway networks and airport facilities.

7. Cadastral: Cadastral data describe the geographic extent of past, current, and future right, title, and interest in real property, including above, surface, and below ground and water, and the foundation to support the description of that geographic extent.

8. Cadastral (Marine): The marine cadastre includes, but is not limited to: Marine Managed Areas and their boundaries; parcels of ocean uses and their boundaries, including the submerged land management system used by the United States; and the rights, restrictions, responsibilities, and legal authority applied to marine spaces.

9. Governmental Unit Boundaries: Governmental units are legally bounded geographic entities that have the authority of a government. A legal government is one established under Federal, Tribal, State or local law with the authority to elect or appoint officials and raise revenues through taxes.

The Governmental Unit Boundary standard accommodates other legal entities and adopts the ANSI X3.31 (FIPS Publication 55-3) description for such entities and also applies to entities that are statistically equivalent to a legal entity for data reporting purposes, e.g., incorporated places that are independent of counties and serve as equivalent to a county.

The framework data standards were initially developed through the Geospatial One-Stop e-government initiative (see http://www.geo-one-stop.gov); however, the Federal Geographic Data Committee (FGDC) organization will complete this intergovernmental geospatial standards development on behalf of Geospatial One-Stop and subsequently maintain the standards.

Framework data standards will be submitted for approval by the American National Standards Institute (ANSI). ANSI is a private, non-profit organization (501(c)3) that administers and coordinates the U.S. voluntary standardization and conformity assessment system. ANSI has accredited the InterNational Committee for Information Technology Standards (INCITS) to develop standards for information and Communications Technologies (ICT). The INCITS Secretariat is administered by the Information Technology Industry (ITI) Council, a trade association representing leading U.S. providers of information technology products and services. The project for development of framework data standards is registered as INCITS 1574-D, Geographic Information Framework Data Content Standard.

As the framework data standards were developed using public funds, Geospatial One-Stop and the FGDC shall be able to freely publish and distribute the contents, including the framework models to the public, as provided through the Freedom of Information Act (FOIA). Upon adoption of the framework data standards as American National Standards, the Information Technology Information (ITI) Council will copyright the American National Standards version of these standards on behalf of INCITS and provide free of charge to the FGDC a non-exclusive license to these standards.

Dated: June 17, 2004.
Ivan DeLoatch,
FGDC Staff Director.

[FR Doc. 04-14128 Filed 6-22-04; 8:45 am]

BILLING CODE 4310-47-M